DEPARTMENT OF THE INTERIOR

Fish and Wildlife Service

[FWS-R9-IA-2010-N006]

[96300-1671-0000-P5]

Issuance of Permits

AGENCY: Fish and Wildlife Service, Interior.

ACTION: Notice of issuance of permits.

SUMMARY: We, the U.S. Fish and Wildlife Service (Service), have issued the following permits to conduct certain activities with endangered species and/or marine mammals.

ADDRESSES: Documents and other information submitted with these applications are available for review, subject to the requirements of the Privacy Act and Freedom of Information Act, by any party who submits a written request for a copy of such documents to: U.S. Fish and Wildlife Service, Division of Management Authority, 4401 North Fairfax Drive, Room 212, Arlington, Virginia 22203; fax 703-358-2281.

FOR FURTHER INFORMATION CONTACT: Division of Management Authority, telephone 703-358-2104.

SUPPLEMENTARY INFORMATION: Notice is hereby given that on the dates below, as authorized by the provisions of the Endangered Species Act of 1973, as amended (16 U.S.C. 1531 et seq.), and/or the Marine Mammal Protection Act of 1972, as amended (16 U.S.C. 1361 et seq.), the Fish and Wildlife Service issued the requested permits subject to certain conditions set forth therein. For each permit for an endangered species, the Service found that (1) the application was filed in good faith, (2) the granted permit would not operate to the disadvantage of the endangered species, and (3) the granted permit would be consistent with the purposes and policy set forth in Section 2 of the Endangered Species Act of 1973, as amended.

Endangered Species
Permit number | Applicant | Receipt of application Federal Register notice | Permit issuance date
003005 | Louisiana State University LSU Museum of Natural Science | 74 FR 47821; September 17, 2009 | December 3, 2009
217648 | U.S. Fish and Wildlife Service | 74 FR 37240, July 28, 2009 | December 8, 2009
222610 | Atlanta-Fulton County Zoo | 74 FR 46222, September 8, 2009 | December 17, 2009
225871 | Lorenzo J. Ferraro | 74 FR 49017; September 25, 2009 | November 16, 2009
228690 | Jorge L. Medina | 74 FR58977; November 16, 2009 | January 6, 2010
229221 | James C. Faith | 74 FR 55062; October 26, 2009 | November 27, 2009
230602 | Edward D. Pylman | 74 FR 58977; November 16, 2009 | December 23, 2009
231522 | Robert B. Spencer | 74 FR 58977; November 16, 2009 | December 17, 2009

Marine Mammals
Permit number | Applicant | Receipt of application Federal Register notice | Permit issuance date
220876 | Alaska Department of Fish and Game | 74 FR 46222; September 8, 2009 | December 22, 2009
227386 | David E. Clapham, M.D., PH.D, Department of Cardiology Children's Hospital | 74 FR 58977; November 16, 2009 | December 22, 2009

Dated: January 8, 2010.
Brenda Tapia,
Program Analyst, Branch of Permits, Division of Management Authority.

[FR Doc. 2010-735 Filed 1-14-10; 8:45 am]

BILLING CODE 4310-55-S